COMMITTEE FOR PURCHASE FROM PEOPLE WHO ARE BLIND OR SEVERELY DISABLED

Procurement List; Addition and Deletion

AGENCY: Committee for Purchase From People Who Are Blind or Severely Disabled.

ACTION: Addition to and Deletion from the Procurement List.

SUMMARY: This action adds a service to the Procurement List that will be provided by a nonprofit agency employing persons who are blind or have other severe disabilities, and deletes a service from the Procurement List previously provided by such agency.

DATES: Effective Date: June 13, 2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Addition

On 3/11/2011 (76 FR 13362-13363), the Committee for Purchase From People Who Are Blind or Severely Disabled published notice of proposed addition to the Procurement List.

Following the publication in the Federal Register of the initial notice containing this and other projects, the Committee received a comment from a self-identified small business owner objecting to the addition of the proposed list of product or service requirements to the Procurement List. While the comment did not specify a particular project, the commenter stated that adding these items would deny small business the opportunity to compete for these projects in the future.

The Javits-Wagner-O'Day Act and its legislative history unmistakably show that Congress understood the importance of job creation for people who are blind or have severe disabilities that would take place when products or services are added to the Procurement List. Through the Act, Congress directed the Committee to make appropriate determinations that would benefit people who are blind or severely disabled. Congress also realized that the decisions could impact other groups. Therefore, when the Committee makes appropriate determinations to add items to the Procurement List, it is meeting its statutory responsibility. In this case, the Committee has determined that this project is suitable for procurement by the government and will be added to the Procurement List.

After consideration of the material presented to it concerning capability of qualified nonprofit agency to provide the service and impact of the addition on the current or most recent contractors, the Committee has determined that the service listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will provide the service to the Government.

2. The action will result in authorizing small entities to provide the service to the Government.

3. There are no known regulatory alternatives which would accomplish the objectives of the Javits-Wagner-O'Day Act (41 U.S.C. 46-48c) in connection with the service proposed for addition to the Procurement List.

End of Certification

Accordingly, the following service is added to the Procurement List:

Service

Service Type/Location: Base Supply Center, Rock Island Arsenal, 3154 Rodman Avenue, Rock Island, IL.

NPA: Association for Retarded Citizens of Rock Island County, Rock Island, IL. Contracting Activity: Dept of the Army, SR W0K8 USA ROCK ISL Arsenal, Rock Island, IL.

Deletion

On 3/11/2011 (76 FR 13362-13363), the Committee for Purchase From People Who Are Blind or Severely Disabled published notice of proposed deletion from the Procurement List.

After consideration of the relevant matter presented, the Committee has determined that the service listed below is no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Recycling Service, Veterans Affairs Medical Center, 1500 East Woodrow Wilson Drive, Jackson, MS.

NPA: Goodwill Industries of Mississippi, Inc., Ridgeland, MS

Contracting Activity: Department of Veterans Affairs, NAC, Hines, IL.

Barry S. Lineback,
Director, Business Operations.

[FR Doc. 2011-11817 Filed 5-12-11; 8:45 am]

BILLING CODE 6353-01-P